DEPARTMENT OF EDUCATION

President's Board of Advisors on Historically Black Colleges and Universities

AGENCY: President's Board of Advisors on Historically Black Colleges and Universities, Office of Secretary, Department of Education.

ACTION: Notice. Cancelled open public meeting.

SUMMARY: This notice is to advise members of the public of the cancellation of the open meeting of the President's Board of Advisors on Historically Black Colleges and Universities scheduled to be held on September 27, 2023 at 1:00 p.m. (EDT). The open meeting was announced in the Federal Register on Friday, May 19, 2023, in FR Doc. 2023-10716 page 32206-32208.

FOR FURTHER INFORMATION CONTACT: Sedika Franklin, Associate Director/Designated Federal Official, U.S. Department of Education, White House Initiative on Historically Black Colleges and Universities, 400 Maryland Avenue SW, Washington, DC 20204; telephone: (202) 453-5634 or (202) 453-5630, or email sedika.franklin@ed.gov.

Donna M. Harris-Aikens,
Deputy Chief of Staff for Strategy, Office of the Secretary.

[FR Doc. 2023-17570 Filed 8-15-23; 8:45 am]

BILLING CODE P